ENVIRONMENTAL PROTECTION AGENCY

[FRL-8788-6]

Science Advisory Board Staff Office; Notification of a Public Teleconference of the Science Advisory Board Expert Elicitation Advisory Panel

AGENCY: Environmental Protection Agency (EPA).

ACTION: Notice.

SUMMARY: The Environmental Protection Agency (EPA or Agency) Science Advisory Board (SAB) Staff Office announces a public teleconference of the SAB Expert Elicitation Advisory Panel to discuss a draft report reviewing EPA's draft Expert Elicitation Task Force White Paper.

DATES: The public teleconference will be held on Wednesday, April 22, 2009, from 1 p.m. to 3 p.m. (Eastern Time).

ADDRESSES: The public teleconference will be conducted by telephone only.

FOR FURTHER INFORMATION CONTACT: Members of the public who wish to obtain further information about this teleconference may contact Dr. Angela Nugent, Designated Federal Officer (DFO). Dr. Nugent may be contacted at the EPA Science Advisory Board (1400F), U.S. Environmental Protection Agency, 1200 Pennsylvania Avenue, NW., Washington, DC 20460; or via telephone/voice mail; (202) 343-9981; fax (202) 233-0643; or e-mail at nugent.angela@epa.gov. General information about the EPA SAB, as well as any updates concerning the meeting announced in this notice, may be found on the SAB Web site at http://www.epa.gov/sab.

SUPPLEMENTARY INFORMATION: Pursuant to the Federal Advisory Committee Act, Public Law 92-463, notice is hereby given that the SAB Expert Elicitation Advisory Panel will hold a public teleconference to discuss a draft report reviewing EPA's draft Expert Elicitation Task Force White Paper. The SAB was established by 42 U.S.C. 4365 to provide independent scientific and technical advice to the Administrator on the technical basis for Agency positions and regulations. The SAB is a Federal Advisory Committee chartered under the Federal Advisory Committee Act (FACA), as amended, 5 U.S.C., App. The SAB will comply with the provisions of FACA and all appropriate SAB Staff Office procedural policies.

Background Information: EPA's Office of the Science Advisor requested SAB review of a draft white paper designed to initiate a thorough discussion of expert elicitation and to investigate how to conduct and use expert elicitation to support EPA regulatory and non-regulatory analyses and decision-making. The SAB Expert Elicitation Advisory Panel met on February 25-26, 2009 (74 FR 5157-5158) to discuss EPA's draft white paper. The Panel will hold a public teleconference to discuss their draft report reviewing EPA's White Paper. Background information on this advisory activity can be found in the Federal Register at 72 FR 35463-35465 and on the SAB Web site at http://yosemite.epa.gov/sab/sabproduct.nsf/fedrgstr_activites/Expert%20Elicitation%20White%20Paper?OpenDocument.

Availability of Meeting Materials: The background materials for this review are available on the EPA Web site at the links provided above in this notice. The draft SAB report will be made available on the SAB Web site in advance of the meeting. See the SAB Web site at http://www.epa.gov/sab.

Procedures for Providing Public Input: Interested members of the public may submit relevant written or oral information for the SAB Committee to consider on the topics under review. Oral Statements: In general, individuals or groups requesting an oral presentation at a public conference call will be limited to three minutes per speaker, with no more than a total of one half hour for all speakers. Interested parties should contact Dr. Nugent, DFO, in writing (preferably via e-mail) at the contact information noted above, by April 15, 2009 to be placed on a list of public speakers for the meeting. Written Statements: Written statements should be received in the SAB Staff Office by April 15, 2009 so that the information may be made available to the SAB Panel members for their consideration. Written statements should be supplied to the DFO in the following formats: One hard copy with original signature, and one electronic copy via e-mail (acceptable file format: Adobe Acrobat PDF, WordPerfect, MS Word, MS PowerPoint, or Rich Text files in IBM-PC/Windows 98/2000/XP format).

Submitters are asked to provide versions of each document submitted with and without signatures, because the SAB Staff Office does not publish documents with signatures on its Web sites.

Accessibility: For information on access or services for individuals with disabilities, please contact Dr. Nugent at the phone number or e-mail address noted above, preferably at least ten days prior to the teleconference to give EPA as much time as possible to process your request.

Dated: March 26, 2009.
Anthony F. Maciorowski,
Deputy Director, EPA Science Advisory Board Staff Office.

[FR Doc. E9-7298 Filed 3-31-09; 8:45 am]

BILLING CODE 6560-50-P